ENVIRONMENTAL PROTECTION AGENCY

[EPA-HQ-OAR-2021-0643; FRL-12136-01-OAR]

Phasedown of Hydrofluorocarbons: Notice of Information Availability for Regulations Implementing the American Innovation and Manufacturing Act

AGENCY: Environmental Protection Agency (EPA).

ACTION: Notice.

SUMMARY: The purpose of this notice is to alert stakeholders that the U.S. Environmental Protection Agency (EPA) has published frequently asked questions related to the regulations implementing the American Innovation and Manufacturing Act. While the questions broadly cover topics on hydrofluorocarbons, the Act itself, and the three new programs established under the Act, the majority of these new and updated frequently asked question are related to the Technology Transitions program restrictions on the use of certain hydrofluorocarbons. The Agency has published and continues to update these frequently asked questions in the Frequent Questions on the Phasedown of Hydrofluorocarbons web area and in the existing rulemaking docket.

DATES: October 28, 2024.

FOR FURTHER INFORMATION CONTACT: Allison Cain, U.S. Environmental Protection Agency, Stratospheric Protection Division, telephone number: 202-564-1566; or email address: Cain.Allison@epa.gov. You may also visit EPA's website at https://www.epa.gov/climate-hfcs-reduction for further information.

SUPPLEMENTARY INFORMATION:

I. Background

The American Innovation and Manufacturing (AIM) Act of 2020 was enacted on December 27, 2020, and codified at 42 U.S.C. 7675. The AIM Act authorizes EPA to address climate-damaging hydrofluorocarbons (HFCs) by providing new authorities in three main areas: to phase down the production and consumption of listed HFCs, manage these HFCs and their substitutes, and facilitate the transition to next-generation technologies through sector-based restrictions. Since the AIM Act was enacted, EPA has finalized a number of rulemakings that implement the AIM Act through three regulatory programs: the HFC Allowance Allocation Program, the Technology Transitions Program, and the Emissions Reduction and Reclamation Program. EPA has provided information to stakeholders about these three programs through our frequently asked questions web page.

The majority of the questions and responses relate to the Technology Transitions final rule published on October 24, 2023 (88 FR 73098). This rule facilitates sector-based transitions to next-generation technologies, as specified in the AIM Act. The rule limits the use of HFCs in specific technology sectors and subsectors, such as foams, aerosols, and refrigeration, air conditioning, and heat pumps. In most subsectors, EPA set a maximum global warming potential (GWP) limit on HFCs or HFC blends that can be used in new products and equipment. In a few subsectors, EPA listed the specific HFCs or HFC blends that are restricted. Compliance dates and GWP limits vary based on sector and subsector. The rule requires that new products and components using HFCs be labeled and that companies that manufacture or import such products or components using HFCs report information to EPA.

Since the publication of the various AIM Act rulemakings, EPA has posted information for stakeholders in question-and-answer form to help stakeholders understand key aspects of these the rules across regulatory programs. To maintain transparency and ensure consistency, EPA has been providing answers to common stakeholder inquiries in the form of frequently asked questions.

II. What information is available and where is it located?

EPA has published these frequently asked questions in the Frequent Questions on the Phasedown of Hydrofluorocarbons web page, available at: https://www.epa.gov/climate-hfcs-reduction/frequent-questions-phasedown-hydrofluorocarbons. EPA has also entered a document with the same title and content as the web page noted above in the rulemaking docket titled “Restrictions on Certain Uses of Hydrofluorocarbons under Subsection (i) of the American Innovation and Manufacturing Act.” This docket can be accessed on Regulations.gov using Docket ID No. EPA-HQ-OAR-2021-0643. EPA intends to update the list of questions and answers on the website and in the docket periodically and may not issue a notice in the Federal Register each time that it does so.

Cynthia A. Newberg,
Director, Stratospheric Protection Division.

[FR Doc. 2024-24929 Filed 10-25-24; 8:45 am]

BILLING CODE 6560-50-P